NATIONAL LABOR RELATIONS BOARD

Further Amendment to Memorandum Describing Authority and Assigned Responsibilities of the General Counsel

AGENCY: National Labor Relations Board.

ACTION: Amendment of delegation of administrative authority to General Counsel under section 3(d) of National Labor Relations Act.

Authority: Sections 3, 4, 6, and 10 of the National Labor Relations Act, 29 U.S.C. Sec. 3, 4, 6, and 10.

SUMMARY: On July 23, 2012, the National Labor Relations Board amended the memorandum describing the authority and assigned responsibilities of the General Counsel of the National Labor Relations Board with respect to administrative functions to establish an Office of the Chief Financial Officer and to reestablish lines of authority within the administrative structure of the Agency. This amendment makes corrections in certain paragraph references required due to the renumbering of paragraphs in the July 23 amendment.

DATES: Effective Date: August 1, 2012.

ADDRESSES: National Labor Relations Board, 1099 14th Street NW., Room 11600, Washington, DC 20570.

FOR FURTHER INFORMATION CONTACT: Lester A. Heltzer, Executive Secretary, National Labor Relations Board, 1099 14th Street NW., Washington, DC 20570. Telephone: (202) 273-1067 (this is not a toll-free number), 1-866-315-6572 (TTY/TDD).

SUPPLEMENTARY INFORMATION: Pursuant to the provisions of section 3(a) of the Administrative Procedure Act (Pub. L. 404, 79th Cong., 2d Sess.), the National Labor Relations Board hereby separately states and currently publishes in the Federal Register the following further amendment to Board memorandum describing the authority and assigned responsibilities of the General Counsel of the National Labor Relations Board.

The Board memorandum describing the authority and assigned responsibilities of the General Counsel of the National Labor Relations Board effective April 1, 1955, as amended September 8, 1958 (effective August 25, 1958), August 12, 1959 (effective August 3, 1959), April 28, 1961 (effective May 15, 1961), October 4, 2002 (effective October 1, 2002), and July 23, 2012 (effective July 23, 2012) (appearing at 20 FR 2175, 23 FR 6966, 24 FR 6666, 26 FR 3911, 67 FR 62992 and 77 FR 43127, respectively), is hereby further amended as follows:

1. Strike the text of paragraphs 1 and 2 of section VII of the amendment dated October 4, 2002 (effective October 1, 2002), and substitute the following:

1. In order more fully to release the Board to the expeditious performance of its primary function and responsibility of deciding cases, the authority and responsibility for all administrative functions of the Agency shall be vested in the General Counsel, except as provided below. This authority shall be exercised subject to the limitations contained in paragraphs 2, 5 and 7, and shall be exercised in conformity with the requirements for joint determination as described in paragraph 4.

2. Subject to the limitations contained in paragraphs 5 and 7, the General Counsel shall exercise full and final authority on behalf of the Agency over the selection, retention, transfer, promotion, demotion, discipline, discharge, and in all other respects, of all personnel engaged in the field, except that personnel action with respect to Regional Directors and Officers-in Charge of Subregional offices will be conducted as hereinafter provided, and in the Washington Office (other than personnel in the Board Members' Offices, the Division of Judges, the Division of Information, the Security Office, the Office of the Solicitor, the Office of the Executive Secretary and the Office of Inspector General): provided, however, that the establishment, transfer or elimination of any Regional or Subregional Office shall require the approval of the Board. The appointment, transfer, demotion, or discharge of any Regional Director or of any Officer-in-Charge of a Subregional office shall be made by the General Counsel only upon the approval of the Board.

Dated: Washington, DC, July 27, 2012.
By direction of the Board.
Lester A. Heltzer,
Executive Secretary.

[FR Doc. 2012-18807 Filed 7-31-12; 8:45 am]

BILLING CODE 7545-01-P